ELECTION ASSISTANCE COMMISSION

Sunshine Act Notice

AGENCY: United States Election Assistance Commission.

ACTION: Notice of Public Meeting.

Date and Time: Thursday, June 14, 2007, 10 a.m.-1 p.m.

Place: U.S. Election Assistance Commission, 1225 New York Ave., NW., Suite 150, Washington, DC 20005. (Metro Stop: Metro Center).

Agenda: The Commission will consider the adoption of a draft EAC report on effective ballot designs and polling place signage. The Commission will consider other administrative matters.

This meeting will be open to the public.

Person To Contact For Information: Bryan Whitener, Telephone: (202) 566-3100.

* * * * *

Donetta L. Davidson,
Chair, U.S. Election Assistance Commission.

[FR Doc. 07-2725 Filed 5-29-07; 3:34 pm]

BILLING CODE 6826-KF-M